COMMISSION ON CIVIL RIGHTS

Sunshine Act Meeting; Agenda Changed

Notice is hereby given of a change in the agenda for the meeting of the United States Commission on Civil Rights, May 31, 2013, 9:30 a.m. to 3:00 p.m. EST, Washington Marriot at Metro Center, 775 12th St. NW.—Grand Ballroom, Washington, DC 20005, which was published in the Federal Register May 23, 2013.

The Meeting Agenda has been amended to include a discussion and vote on the Stand Your Ground research topic and a discussion of concept papers.

AGENCY: United States Commission on Civil Rights.

ACTION: Amended Notice of Briefing and Business Meeting.

DATE AND TIME: Friday, May 31, 2013 at 9:30 a.m. EST.

PLACE: Washington Marriott at Metro Center, 775 12th St. NW.—Grand Ballroom, Washington, DC 20005.

Briefing Agenda—9:30 a.m.-3:00 p.m.

The briefing is open to the public.

Topic: Protecting the Civil Rights of Our Veterans and Service Members

I. Introductory Remarks by Chairman

II. Panel 1—9:30 a.m.-11:00 a.m.: Federal Government Officials Speakers' Remarks and Questions from Commissioners

III. Panel 2—11:00 a.m.-12:30 p.m.: Advocacy Groups Speakers' Remarks and Questions from Commissioners

IV. LUNCH—12:30 p.m.-1:30 p.m.

V. Panel 3—1:30 p.m.-3:00 p.m.: Experts Speakers' Remarks and Questions from Commissioners

VI. Adjourn Briefing

Meeting Agenda—3:00 p.m.

I. Approval of Agenda

II. Results of Notational Vote Ballots regarding:

a. Delegation of authority to initiate the Affected Agency Review of the 2013 Statutory Report

b. Concurrence with the President's appointment of a U.S. Commission on Civil Rights Staff Director

III. Management and Operations

• Consideration of date change for the September 2013 business meeting

• Discussion and Vote on the Stand Your Ground Research Topic

• Discussion of Concept Papers

IV. Approval of State Advisory Committee Appointment Slates

• Kentucky

• New Jersey

• Oregon

V. Adjourn Meeting

FOR FURTHER INFORMATION CONTACT: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: May 21, 2013.
David Mussatt,
Acting Chief, Regional Programs Coordination Unit.

[FR Doc. 2013-12428 Filed 5-21-13; 4:15 pm]

BILLING CODE 6335-01-P